DEPARTMENT OF ENERGY

Federal Energy Regulatory Commission

[Docket No. RP00-219-001]

Northwest Pipeline Corporation; Notice of Compliance Filing

May 12, 2000.

Take notice that on May 8, 2000, Northwest Pipeline Corporation (Northwest) tendered for filing additional information related to its March 16, 2000 filing in the above referenced docket.

Northwest states that the purpose of this filing is to comply with the Commission's Letter order issued April 26, 2000 in Docket No. RP00-219, which directed Northwest to provide additional information related to the reconciliation of 1999 lost and unaccounted for volumes and the allocation of fuel usage at the Jackson Prairie storage facility.

Northwest states that a copy of this filing has been served upon each person designated on the official service list complied by the Secretary in this proceeding.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-12472 Filed 5-17-00; 8:45 am]

BILLING CODE 6717-01-M